DEPARTMENT OF HEALTH AND HUMAN SERVICES

Centers for Disease Control and Prevention

[NIOSH-008 (Powered Air-Purifying Respirators); NIOSH-148 (Air Fed Suits); NIOSH-034 (Open-Circuit, Self-Contained Breathing Apparatus, End of Service Life Indicator); NIOSH-0146 (Personal Protective Technology Action Planning)]

Notice of a Public Meeting

AGENCY: National Institute for Occupational Safety and Health (NIOSH) of the Centers for Disease Control and Prevention (CDC), Department of Health and Human Services (HHS).

ACTION: Notice of a public meeting.

SUMMARY: The National Institute for Occupational Safety and Health (NIOSH) of the Centers for Disease Control and Prevention (CDC) announces the availability of the following public meeting to discuss NIOSH's Respirator Standards Development Efforts and the Personal Protective Technology (PPT) Program Action Planning Efforts.

Authority: Occupational Safety and Health Act, 29 U.S.C. 651 et seq.

Public Meeting Time and Date: 8:30 a.m.-5 p.m., December 2, 2008. On-site registration will be held beginning at 7:45 a.m.

Place: Hyatt Regency Pittsburgh International Airport, 1111 Airport Boulevard, Pittsburgh, Pennsylvania 15231. Interested parties should make hotel reservations directly with the Hyatt Regency Pittsburgh International Airport by calling (800) 233-1234, before the cut-off date of November 17, 2008. You must reference the NIOSH room block to receive the special group rate of $114.00 per night that has been negotiated for meeting guests.

Purpose of Meeting: The NIOSH, National Personal Protective Technology Laboratory (NPPTL), will conduct a public meeting to discuss current respirator standards development projects for powered air-purifying respirators (PAPR); air fed suits; and open-circuit, self-contained breathing apparatus, end of service life indicators. The NIOSH Personal Protective Technology program action planning to address National Academies program evaluation recommendations will also be discussed. There will be an opportunity for discussion following NIOSH's presentations and an accompanying poster session discussing PAPR.

Status: The meeting will be open to the public, limited only by the space available. The meeting room accommodates approximately 200 people.

Requests to make presentations at the public meeting should be mailed to the NIOSH Docket Officer, Robert A. Taft Laboratories, Mailstop C34, 4676 Columbia Parkway, Cincinnati, Ohio 45226. Requests may also be submitted by telephone (513) 533-8611, facsimile (513) 533-8285, or e-mailed to niocindocket@cdc.gov. All requests to present should contain the name, address, and telephone number, relevant business affiliations of the presenter, topic of the presentation, and the approximate time requested for the presentation. Oral presentations should be limited to 15 minutes.

After reviewing the requests for presentations, NIOSH will notify the presenter that their presentation is scheduled. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

Background: NIOSH will present information to attendees concerning the development of the concepts being considered for the development of performance criteria for the various classes of respirators. Participants will be given an opportunity to ask questions and to present individual comments that they may wish to have considered.

Contact Person for Technical Information: Jonathan Szalajda, Branch Chief, NPPTL, Policy and Standards Development Branch, Post Office Box 18070, 626 Cochrans Mill Road, Pittsburgh, Pennsylvania 15236, telephone (412) 386-5200, facsimile (412) 386-4089, e-mail npptlevents@cdc.gov. Information regarding documents that will be discussed at the meeting may be obtained from the NIOSH web site using this link: http://www.cdc.gov/niosh/review/public/ using the docket numbers listed in this notice.

Dated: October 27, 2008.
James D. Seligman,
Chief Information Officer, Centers for Disease Control and Prevention.

[FR Doc. E8-26359 Filed 11-4-08; 8:45 am]

BILLING CODE 4163-19-P